DEPARTMENT OF COMMERCE

National Telecommunications and Information Administration

First Responder Network Authority; First Responder Network Authority Board Meetings

AGENCY: First Responder Network Authority, National Telecommunications and Information Administration, U.S. Department of Commerce.

ACTION: Notice of public meeting.

SUMMARY: The Board of the First Responder Network Authority (FirstNet) will convene an open public meeting of the Board on December 10, 2014, preceded by meetings of the Board Committees on December 9, 2014.

DATES: On December 9, 2014 between 9:00 a.m. and 5:00 p.m. Mountain Standard Time there will be sequential meetings of FirstNet's four Board Committees: (1) Governance and Personnel; (2) Technology; (3) Outreach; and (4) Finance. The FirstNet Board will hold a meeting on December 10, 2014, between 9:00 a.m. and 12:00 p.m. Mountain Standard Time.

ADDRESSES: The meetings on December 9 and 10, 2014 will be held at the Salt Lake City Police Department, 475 South 300 East, Salt Lake City, Utah 84114-5497. The meetings will be held in the auditorium.

FOR FURTHER INFORMATION CONTACT: Uzoma Onyeije, Secretary, FirstNet, 12201 Sunrise Valley Drive Reston, VA 20192: telephone (703) 648-4165; email uzoma.onyeije@firstnet.gov. Please direct media inquiries to Corey Ray at (703) 648-4109.

SUPPLEMENTARY INFORMATION: This notice informs the public that the Board of FirstNet will convene an open public meeting of the Board on December 10, 2014, preceded by meetings of the Board Committees on December 9, 2014.

Background: The Middle Class Tax Relief and Job Creation Act of 2012 (Act), Public Law 112-96, 126 Stat. 156 (2012), established FirstNet as an independent authority within NTIA that is headed by a Board. The Act directs FirstNet to ensure the building, deployment, and operation of a nationwide, interoperable public safety broadband network. The FirstNet Board is responsible for making strategic decisions regarding FirstNet's operations. The FirstNet Board held its first public meeting on September 25, 2012.

Matters To Be Considered: FirstNet will post detailed agendas of each meeting on its Web site, http://www.firstnet.gov, prior to the meetings. The agenda topics are subject to change. Please note that the subjects that will be discussed by the Committees and the Board may involve commercial or financial information that is privileged or confidential, personnel matters, or other legal matters affecting FirstNet. As such, the Committee chairs and Board Chair may call for a vote to close the meetings only for the time necessary to preserve the confidentiality of such information, pursuant to 47 U.S.C. 1424(e)(2).

Times and Dates of December 2014 Meetings: On December 9, 2014, between 9:00 a.m. and 5:00 p.m. Mountain Standard Time there will be sequential meetings of FirstNet's four committees. The full FirstNet Board meeting will be held on December 10, 2014, between 9:00 and 12:00 p.m. Mountain Standard Time.

Place: The meetings on December 9 and 10, 2014 will be held at the Salt Lake City Police Department, 475 South 300 East, Salt Lake City, Utah 84114-5497. The meetings will be held in the auditorium.

Other Information: These meetings are open to the public and press on a first-come, first-served basis. Space is limited. In order to get an accurate headcount, all expected attendees are asked to provide notice of intent to attend by sending an email to BoardRSVP@firstnet.gov. If the number of RSVPs indicates that expected attendance has reached auditorium capacity, FirstNet will respond to all subsequent notices indicating that auditorium capacity has been reached and that in person viewing may no longer be available but that the meeting may still be viewed by webcast as detailed below. For access to the meetings, valid, government issued photo identification may be requested for security reasons.

The meetings are accessible to people with disabilities. Individuals requiring accommodations, such as sign language interpretation or other ancillary aids, are asked to notify Uzoma Onyeije, Secretary, FirstNet, at (703) 648-4165 or uzoma.onyeije@firstnet.gov at least five (5) business days before the meeting.

The meetings will also be webcast. Please refer to FirstNet's Web site at www.firstnet.gov for webcast instructions and other information. If you have technical questions regarding the webcast, please contact Ruben Vasquez at (703) 648-4195 or by email at ruben.vasquez@firstnet.gov. The meetings will also be available by phone. Please call 888-997-9859 and provide the password “FirstNet.”

Records: FirstNet maintains records of all Board proceedings. Minutes of the Board Meeting and the Committee meetings will be available at www.firstnet.gov.

Dated: November 20, 2014.
Stuart Kupinsky,
Chief Counsel, First Responder Network Authority.

[FR Doc. 2014-28006 Filed 11-25-14; 8:45 am]

BILLING CODE 3510-IL-P